DEPARTMENT OF HEALTH AND HUMAN SERVICES

Health Resources and Services Administration

Agency Information Collection Activities: Proposed Collection: Public Comment Request; Information Collection Request Title: Nurse Faculty Loan Program—Revised Program Specific Data Form, OMB No. 0915-0378—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than April 24, 2017.

ADDRESSES: Submit your comments to paperwork@hrsa.gov or mail the HRSA Information Collection Clearance Officer, 14N39, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference, in compliance with Section 3506(c)(2)(A) of the Paperwork Reduction Act of 1995.

Information Collection Request Title: Nurse Faculty Loan Program—Revised Program Specific Data Form, OMB No. 0915-0378—Revision.

Abstract: This clearance request is for continued approval of the Nurse Faculty Loan Program (NFLP) revised Program Specific Data Form. HRSA is streamlining the data collection forms by making the following changes:

• Line Item D will be renamed “D1. NFLP Loan Fund Balance/Unused Accumulation.”

• Addition of Line Item D2 entitled “NFLP Loan Fund Default Rate,” requesting information regarding the status of an institution's default rate.

• Addition of Line Item D3 entitled “Last NFLP Student Loan Award,” requesting information regarding the disbursement of NFLP loan funds within the last 2 academic years.

• Line Item E2 Column Header will be renamed “E.2 NFLP Enrollees Information by Degree—New Students Expected to Request NFLP Support.”

• Under Section B of instructions, “other attachments” will be updated to reflect the current list of NFLP Funding Opportunity Announcement attachments.

Need and Proposed Use of the Information: The NFLP—Program Specific Data Form is a required electronic attachment within the NFLP application materials. The data provided in the form is essential for the formula-based criteria used to determine the award amount to the applicant schools. Continued approval of the revised NFLP—Program Specific Data Form will allow HRSA to more efficiently capture data to generate the formula-based award.

Addition of Line Item D2, NFLP Loan Fund Default Rate, will allow HRSA to easily assess and consider an existing performance standard for those applicants with existing NFLP loan accounts. Used in combination with an existing NFLP institution's self-reported NFLP loan balance, addition of Line Item D3, Last NFLP Student Loan Award, will allow HRSA to assess the loan fund activity (i.e., incidence of loans to students) of an existing NFLP institution applying for additional funding.

This data collection enables an efficient award determination process, and facilitates reporting on the use of funds and analysis of program outcomes.

Likely Respondents: NFLP eligible applicants. This includes accredited schools of nursing offering eligible advanced masters and/or doctoral degree nursing education programs that will prepare students to serve as qualified nursing faculty.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
NFLP—Program Specific Data Form | 90 | 1 | 90 | 8 | 720
Total | 90 |  | 90 |  | 720

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jason E. Bennett,
Director, Division of the Executive Secretariat.

[FR Doc. 2017-03339 Filed 2-17-17; 8:45 am]

BILLING CODE 4165-15-P